DEPARTMENT OF COMMERCE

Foreign-Trade Zones Board

[Order No. 1923]

Reorganization and Expansion of Foreign-Trade Zone 146 Under Alternative Site Framework Lawrence County, Illinois

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Bi-State Authority, grantee of Foreign-Trade Zone 146, submitted an application to the Board (FTZ Docket B-50-2013, docketed 5-20-2013) for authority to reorganize under the ASF with a service area of Clay, Crawford, Edwards, Hamilton, Lawrence, Richland and Wayne Counties, Illinois, in and adjacent to the Evansville, Indiana Customs and Border Protection port of entry, FTZ 146's existing Sites 1 and 2 would be categorized as magnet sites, and the grantee proposes an initial usage-driven site (Site 3);

Whereas, notice inviting public comment was given in the Federal Register (78 FR 32367, 5/30/2013) and the application has been processed pursuant to the FTZ Act and the Board's regulations; and,

Whereas, the Board adopts the findings and recommendations of the examiner's report, and finds that the requirements of the FTZ Act and the Board's regulations would be satisfied;

Now, therefore, the Board hereby orders:

The application to reorganize FTZ 146 under the ASF is approved, subject to the FTZ Act and the Board's regulations, including Section 400.13, to the Board's standard 2,000-acre activation limit for the zone, to a five-year ASF sunset provision for magnet sites that would terminate authority for Sites 1 and 2 if not activated by December 31, 2018, and to a three-year ASF sunset provision for usage-driven sites that would terminate authority for Site 3 if no foreign-status merchandise is admitted for a bona fide customs purpose by December 31, 2016.

Signed at Washington, DC, this 6th day of December 2013.
Paul Piquado,
Assistant Secretary of Commerce for Enforcement and Compliance, Alternate Chairman, Foreign-Trade Zones Board.

[FR Doc. 2013-30109 Filed 12-17-13; 8:45 am]

BILLING CODE 3510-DS-P